DEPARTMENT OF INTERIOR

Bureau of Land Management

[HE-952-9911-00]

Extension of Approved Information Collection, OMB Number 1004-0179

AGENCY: Bureau of Land Management, Interior.

ACTION: Notice and request for comments.

SUMMARY: In accordance with the Paperwork Reduction Act of 1995, the Bureau of Land Management (BLM) is announcing its intention to request renewal of an existing approval to collect certain information from those persons with an In-Kind Crude Helium Sales Contract. BLM also collects helium sales information from Federal agencies and helium suppliers on major helium requirements to balance crude helium sales with the sale of helium to Federal agencies (43 CFR 3195).

DATES: You must submit your comments to BLM at the appropriate address below on or before January 29, 2001. BLM will not necessarily consider any comments received after the above date.

ADDRESSES: Comments may be mailed to: Regulatory Affairs Group (630), Bureau of Land Management, 1849 C Street NW, Room 401LS, Washington, D.C. 20240.

Comments may be sent via Internet to: WOComment@blm.gov. Please include “ATTN: 1004-0179” and your name and return address in your Internet message.

Comments may be hand-delivered to the Bureau of Land Management, Administrative Record, Room 401, 1620 L Street, NW, Washington, D.C. 20036.

Comments will be available for public review at the L Street address during regular business hours (7:45 a.m. to 4:15 p.m., Monday through Friday).

FOR FURTHER INFORMATION CONTACT: Connie H. Neely, Crude Helium Sales Analyst, (806) 324-2635.

SUPPLEMENTARY INFORMATION: In accordance with 5 CFR 1320.12(a), the BLM is required to provide 60-day notice in the Federal Register concerning a collection of information contained in a published current rule to solicit comments on (a) whether the proposed collection of information is necessary for the proper performance of the functions of the agency, including whether the information will have practical utility; (b) the accuracy of the agency's estimate of the burden of the proposed collection of information, including the validity of the methodology and assumptions used; (c) ways to enhance the quality, utility, and clarity of the information to be collected; and (d) ways to minimize the burden of the collection of information on those who are to respond, including through the use of appropriate automated, electronic, mechanical, or other technological collection techniques or other forms of information technology. The BLM will receive and analyze any comments sent in response to this notice and include them with its request for approval from the Office of Management and Budget under 44 U.S.C. 3501 et seq.

The Helium Privatization Act of 1996 requires the Department of the Defense, the Atomic Energy Commission, the National Aeronautics and Space Administration, and other Federal agencies to purchase major helium requirements from authorized contractors. These contractors are then required to purchase an equivalent amount of crude helium from the Department of the Interior, Bureau of Land Management.

The respondents are Federal agencies and helium suppliers (contractors) who purchase major helium requirements and report to BLM the sales information for an accurate account of helium to Federal agencies from Federal helium suppliers.

BLM estimates an average of 76 respondents and 304 responses annually. The frequency of response is once for the In-Kind Crude Helium Sales Contract and quarterly for the required helium sales information under 43 CFR 3195. Based on the BLM's experience, it will take a respondent approximately one hour to supply the requested information in the In-Kind Crude Helium Sales Contract. It will take a respondent from 15 minutes to 2 hours to supply the required helium sales information under 43 CFR 3195. The estimated total annual burden is 912 hours collectively.

All responses to this notice will be summarized and included in the request for Office of Management and Budget approval. All comments will also become a matter of public record.

Dated: November 20, 2000.
Michael Schwartz,
BLM Information Collection Clearance Officer.

[FR Doc. 00-30189 Filed 11-27-00; 8:45 am]

BILLING CODE 4310-84-M